DEPARTMENT OF ENERGY

10 CFR Part 431

[Docket No. EERE-2008-BT-STD-0015]

RIN 1904-AB86

Energy Efficiency Program for Consumer Products: Public Meeting and Availability of the Framework Document for Walk-In Coolers and Walk-In Freezers

AGENCY: Office of Energy Efficiency and Renewable Energy, Department of Energy.

ACTION: Notice of public meeting and availability of the framework document.

SUMMARY: The Department of Energy (DOE) is initiating the rulemaking to consider establishing energy conservation standards for walk-in coolers and walk-in freezers. Accordingly, DOE will hold an informal public meeting to discuss and receive comments on its planned analytical approach and issues it will address in this rulemaking proceeding. DOE welcomes written comments from the public on our stated approach for this rulemaking. To inform stakeholders and to facilitate this process, DOE has prepared a Framework Document which details the analytical approach and identifies several issues on which DOE is particularly interested in receiving comment. A copy of the Framework Document is available at: http://www.eere.energy.gov/buildings/appliance_standards/commercial/walkinrefrigeration_equipment.html.

DATES: The Department will hold a public meeting on Wednesday, January 28, 2009, from 9 a.m. to 4 p.m. in Washington, DC. Any person requesting to speak at the public meeting should submit such request along with a signed original and an electronic copy of the statement to be given at the public meeting before 4 p.m., Wednesday, January 21, 2009. Written comments on the framework document are welcome, especially following the public meeting, and should be submitted by February 5, 2009.

ADDRESSES: The public meeting will be held at the U.S. Department of Energy, Forrestal Building, Room 1E-245, 1000 Independence Avenue, SW., Washington, DC 20585-0121. Please note that foreign nationals participating in the public meeting are subject to advance security screening procedures. If a foreign national wishes to participate in the public meeting, please inform DOE of this fact as soon as possible by contacting Brenda Edwards at (202) 586-2945 so that the necessary procedures can be completed.

Stakeholders may submit comments, identified by docket number EERE-2008-BT-STD-0015 and/or Regulation Identifier Number (RIN) 1904-AB86, by any of the following methods:

• Federal eRulemaking Portal: http://www.regulations.gov. Follow the instructions for submitting comments.

• E-mail: WICF-2008-STD-0015@ee.doe.gov. Include EERE-2008-BT-STD-0015 and/or RIN 1904-AB86 in the subject line of the message.

• Mail: Brenda Edwards, U.S. Department of Energy, Building Technologies Program, Mailstop EE-2J, Framework Document for Walk-In Coolers and Walk-In Freezers, EERE-2008-BT-STD-0015 and/or RIN 1904-AB86, 1000 Independence Avenue, SW., Washington, DC 20585-0121. Please submit one signed paper original.

• Hand Delivery/Courier: Brenda Edwards, U.S. Department of Energy, Building Technologies Program, Sixth Floor, 950 L'Enfant Plaza, SW., Washington, DC 20024. Please submit one signed paper original.

Instructions: All submissions received must include the agency name and docket number or RIN for this rulemaking found at the beginning of this notice.

Docket: For access to the docket to read background documents, a copy of the transcript of the public meeting, or comments received, go to the U.S. Department of Energy, Resource Room of the Building Technologies Program, Sixth Floor, 950 L'Enfant Plaza, SW., Washington, DC 20024, (202) 586-2945, between 9 a.m. and 4 p.m., Monday through Friday, except Federal holidays. Please call Brenda Edwards first at the above telephone number for additional information regarding visiting the Resource Room.

FOR FURTHER INFORMATION CONTACT: Charles Llenza, U.S. Department of Energy, Office of Energy Efficiency and Renewable Energy, Building Technologies, EE-2J, 1000 Independence Avenue, SW., Washington, DC 20585-0121. Telephone: (202) 586-2192. E-mail: Charles.Llenza@ee.doe.gov.

Michael Kido, U.S. Department of Energy, Office of the General Counsel, GC-72, 1000 Independence Avenue, SW., Washington, DC 20585-0121. Telephone: (202) 586-9507. E-mail: Michael.Kido@hq.doe.gov.

For information on how to submit or review public comments and on how to participate in the public meeting, contact Brenda Edwards, U.S. Department of Energy, Office of Energy Efficiency and Renewable Energy, Building Technologies Program, EE-2J, 1000 Independence Avenue, SW., Washington, DC 20585-0121. Telephone (202) 586-2945. E-mail: Brenda.Edwards@ee.doe.gov.

SUPPLEMENTARY INFORMATION: Title III of the Energy Policy and Conservation Act of 1975 (EPCA) sets forth a variety of provisions designed to improve energy efficiency. Part A of Title III (42 U.S.C. 6291-6309) provides for the Energy Conservation Program for Consumer Products Other Than Automobiles.¹ Part A-1 of Title III (42 U.S.C. 6311-6317) establishes a similar program for “Certain Industrial Equipment,” including walk-in coolers and walk-in freezers, the subject of this rulemaking.²

¹ This part was originally titled Part B; however, it was redesignated Part A after Part B of Title III of EPCA was repealed by Public Law 109-58.

² This part was originally titled Part C; however, it was redesignated Part A-1 after Part B of Title III of EPCA was repealed by Public Law 109-58.

More recently, EPCA was amended by the Energy Independence and Security Act of 2007 (EISA), Public Law 110-140. In particular, section 312(a) of EISA amends section 340 of EPCA by adding in new subsection 340(20) (42 U.S.C. 6311(20)), which defines walk-in coolers and walk-in freezers. In addition, section 312(b) of EISA amends section 342 of EPCA by adding new subsection 342(f)(1) (42 U.S.C. 6313(f)(1)), which establishes prescriptive standards for walk-in coolers and freezers manufactured on or after January 1, 2009. Section 312 of EISA amends section 342 of EPCA by adding a new subsection 342(f)(2) (42 U.S.C. 6313(f)(2)), which establishes requirements for electronically commutated motors for walk-in coolers and freezers described in paragraph (f)(1)(E)(i). Section 312 of EISA amends section 342 of EPCA by adding new subsection 342(f)(3) (42 U.S.C. 6313(f)(3)), which establishes additional requirements for walk-in coolers or walk-in freezers with transparent reach-in doors manufactured on or after January 1, 2009. Section 312 of EISA amends section 342 of EPCA by adding new subsection 342(f)(4) (42 U.S.C. 6313(f)(4)), which directs the Secretary to issue by rule, no later than January 1, 2012, performance-based standards for walk-in coolers and walk-in freezers manufactured on or after 3 or 5 years after the final rule is published. These new requirements are the subjects of this Framework Document.

Additionally, section 312(c) of EISA amends section 343(a) of EPCA (42 U.S.C. 6314(a)) by adding new subsection 343(a)(9) (42 U.S.C. 6314(a)(9)), which establishes test procedure definitions for walk-in cooler and freezer and directs the Secretary to establish test procedures to measure the energy-use of walk-in coolers and walk-in freezers. Accordingly, DOE intends to propose such test procedures under a separate rulemaking.

To initiate this rulemaking to establish energy conservation standards for this equipment class, DOE has prepared a Framework Document to explain the issues, analyses, and processes it anticipates using for the development of energy conservation standards for walk-in coolers and walk-in freezers. As noted above, DOE will hold a public meeting on Wednesday, January 28, 2009 in Washington, DC, the main focus of which will be to discuss the analyses presented and issues identified in the Framework Document. At the public meeting, the Department will make a number of presentations, invite discussion on the rulemaking process as it applies to walk-in coolers and walk-in freezers, and solicit public comments, data, and information from participants and other stakeholders.

The Department encourages those who wish to participate in the public meeting to obtain the Framework Document and to be prepared to discuss its contents. A copy of the draft Framework Document is available at: http://www.eere.energy.gov/buildings/appliance_standards/commercial/walkinrefrigeration_equipment.html.

Public meeting participants need not limit their comments to the issues identified in the Framework Document. The Department is also interested in receiving views concerning other relevant issues that participants believe would affect energy conservation standards for this equipment and applicable test procedures. Furthermore, the Department welcomes all interested parties, whether or not they participate in the public meeting, to submit in writing by February 5, 2009, comments and information on matters addressed in the Framework Document and on other matters relevant to consideration of standards for walk-in coolers and walk-in freezers.

The public meeting will be conducted in an informal, facilitated, conference style. There shall be no discussion of proprietary information, costs or prices, market shares, or other commercial matters regulated by U.S. antitrust laws. A court reporter will record the proceedings of the public meeting, after which a transcript will be available on the above-referenced Web site.

After the public meeting and the close of the comment period on the Framework Document, DOE will begin collecting data, conducting the analyses as discussed in the Framework Document and at the public meeting, and reviewing the comments received.

DOE considers public participation to be a very important part of the process for setting energy conservation standards. DOE actively encourages the participation and interaction of the public during the comment period in each stage of the rulemaking process. Beginning with the Framework Document, and during each subsequent public meeting and comment period, interactions with and between members of the public provide a balanced discussion of the issues to assist DOE with the standards rulemaking process. Accordingly, anyone who would like to participate in the public meeting, receive meeting materials, or be added to the DOE mailing list to receive future notices and information regarding this rulemaking on walk-in coolers and walk-in freezers, should contact Brenda Edwards at (202) 586-2945, or via e-mail at: Brenda.Edwards@ee.doe.gov.

Issued in Washington, DC, on December 24, 2008.
John F. Mizroch,
Acting Assistant Secretary, Energy Efficiency and Renewable Energy.

[FR Doc. E8-31405 Filed 1-5-09; 8:45 am]

BILLING CODE 6450-01-P